DEPARTMENT OF LABOR

Bureau of Labor Statistics

Data Users Advisory Committee; Notice of Meeting and Agenda

The Bureau of Labor Statistics Data Users Advisory Committee will meet on Tuesday, May 7, 2013. The meeting will be held in the Postal Square Building, 2 Massachusetts Avenue NE.; Washington, DC.

One item has been added to the end of the agenda.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Postal Square Building Conference Center. The schedule and agenda for the meeting are as follows:

8:30 a.m. Registration

9:00 a.m. Commissioner's welcome and review of agency developments

10:00 a.m. Occupational Requirements Survey—What are the options for data presentation?

11:15 a.m. Geographic Display of Data

1:30 p.m. Outreach Efforts at BLS

BLS Speaker's Page and Trending News—Identifying Interesting and Timely Topics for Public Presentation

EA&I and Local Outreach—Customizing Local Data

3:00 p.m. A new approach to developing and presenting occupational replacement needs

4:15 p.m. Meeting wrap-up

The meeting is open to the public. Any questions concerning the meeting should be directed to Kathy Mele, Data Users Advisory Committee, on 202.691.6102. Individuals who require special accommodations should contact Ms. Mele at least two days prior to the meeting date.

Signed at Washington, DC, this 18th day of April 2013.
Eric P. Molina,
Acting Chief, Division of Management Systems, Bureau of Labor Statistics.

[FR Doc. 2013-09621 Filed 4-23-13; 8:45 am]

BILLING CODE 4510-24-P